DEPARTMENT OF HEALTH AND HUMAN SERVICES

Centers for Medicare & Medicaid Services

[CMS-8049-N]

Medicare Program; Establishment of the Medicare Economic Index Technical Advisory Panel and Request for Nominations for Members

AGENCY: Centers for Medicare & Medicaid Services (CMS), HHS.

ACTION: Notice.

SUMMARY: This notice announces the establishment of the Medicare Economic Index Technical Advisory Panel and discusses the group's purpose and charter. It also requests nominations for individuals to serve on the panel.

DATES: Nominations will be considered if we receive them at the appropriate address, provided in the ADDRESSES section of this notice, no later than 5 p.m., eastern day light time on November 7, 2011.

ADDRESSES: Send nominations to: Centers for Medicare & Medicaid Services, 7500 Security Boulevard, Baltimore Maryland 21244-1850, Office of the Actuary, Mail stop N3-02-02, Attention: John Poisal.

FOR FURTHER INFORMATION CONTACT: John Poisal, (410) 786-6397. Press inquiries are handled through the CMS Press Office at (202) 690-6145.

SUPPLEMENTARY INFORMATION:

I. Background

In the calendar year (CY) 2011 Physician Fee Schedule (PFS) proposed and final rules (75 FR 40095 and 75 FR 73274), we solicited and responded to comments regarding the convening of a technical advisory panel to review all aspects of the Medicare Economic Index (MEI), including the inputs, input weights, price-measurement proxies, and productivity adjustment. We noted that we would ask the panel to assess the relevance and accuracy of these inputs to current physician practices. The panel's analysis and recommendations will be considered for future rulemaking to ensure that the MEI accurately and appropriately meets its intended statutory purpose. We also solicited comments from the physician community and other interested members of the public on any other specific issues that should be considered by the technical panel.

The Secretary of the Department of Health and Human Services (the Secretary) is establishing a Medicare Economic Index Technical Advisory Panel under Public Law 92-463, Federal Advisory Committee Act, to conduct a technical review of the MEI.

II. Charter, General Responsibilities, and Composition of the Medicare Economic Index Technical Advisory Panel

A. Charter Information and General Responsibilities

On September 28, 2011, the Secretary signed the charter establishing the Medicare Economic Index Technical Advisory Panel (the Panel). The Panel will conduct a technical review of the MEI, including the inputs, input weights, price-measurement proxies, and productivity adjustment. The Panel will be asked to assess the relevance and accuracy of these inputs to current physician practices. Following the technical review meeting(s), the Panel shall issue a report that summarizes its recommendations for the MEI.

Meetings will be open to the public except when closure is specifically required by statute, and after all statutory and regulatory requirements for doing so have been met. The Secretary or other official to whom the authority has been delegated will make such determinations. Notice of all meetings will be given to the public via a Federal Register notice.

The Secretary will request that the Centers for Medicare & Medicaid Services (CMS) consider the Panel's recommendations for future rulemaking to ensure that the MEI accurately and appropriately meets its intended statutory purpose. The Panel will not consider issues such as replacing the price index with a cost index, or other issues that lie outside the limits of CMS' statutory authority, such as replacing the sustainable growth rate (SGR) formula with the MEI.

The Panel, as chartered under the legal authority of section 222 of the Public Health Service Act (42 U.S.C. 217a), is also governed by the provisions of the Public Law 92-463, as amended (5 U.S.C. appendix 2), which sets forth standards for the formation and use of advisory committees, and the provisions of the Government in the Sunshine Act, 5 U.S.C. 552b(b).

The Panel will terminate 30 days after the date of submission of the final report to the Secretary, but no later than September 28, 2012.

You may view and obtain a copy of the Secretary's charter for the Panel at https://www.cms.gov/FACA/.

B. Composition of the Panel

The Panel will consist of not more than seven members, including the chair(s). The Panel may be composed of, but is not necessarily limited to, representatives of other government agencies (such as the Bureau of Labor Statistics and the Bureau of Economic Analysis), members of the Medicare Payment Advisory Commission, researchers, and other independent experts.

III. Submission of Nominations

We are requesting nominations for individuals to serve as members on the Panel. We will consider qualified individuals who are self-nominated or are nominated by agency officials, members of Congress, the general public, professional societies, trade associations, or other organizations. Non-federal employee members of the Panel will be appointed as Special Government Employees and will be required to go through an ethics review. The Secretary or the Secretary's designee will appoint members to serve on the Panel from amongst the candidates that we determine have the technical expertise to meet specific agency needs in a manner to ensure an appropriate balance of membership.

Any interested person may nominate one or more qualified individuals. Each nomination must include the name and contact information for both the nominator and nominee (if not the same).

To ensure that a nomination is considered, we must receive the nomination information by the date specified in the DATES section of this notice. Nominations should be mailed to the address specified in the ADDRESSES section of this notice.

Authority: 42 U.S.C 217a, section 222 of the Public Health Service Act.

Dated: September 29, 2011.
Donald M. Berwick,
Administrator, Centers for Medicare & Medicaid Services.

[FR Doc. 2011-26040 Filed 10-6-11; 8:45 am]

BILLING CODE 4120-01-P